DEPARTMENT OF THE INTERIOR

National Park Service

[NPS-WASO-NAGPRA-NPS0039813; PPWOCRADN0-PCU00RP14.R50000]

Notice of Inventory Completion: Cleveland Museum of Natural History, Cleveland, OH

AGENCY: National Park Service, Interior.

ACTION: Notice.

SUMMARY: In accordance with the Native American Graves Protection and Repatriation Act (NAGPRA), the Cleveland Museum of Natural History (CMNH), has completed an inventory of human remains and associated funerary objects and has determined that there is a cultural affiliation between the human remains and associated funerary objects and Indian Tribes or Native Hawaiian organizations in this notice.

DATES: Repatriation of the human remains and associated funerary objects in this notice may occur on or after May 2, 2025.

ADDRESSES: Dr. Gavin Svenson, Cleveland Museum of Natural History, 1 Wade Oval Drive, Cleveland, OH 44106, telephone (216) 231-4600 Ext. 3315, email gsvenson@cmnh.org.

SUPPLEMENTARY INFORMATION: This notice is published as part of the National Park Service's administrative responsibilities under NAGPRA. The determinations in this notice are the sole responsibility of the CMNH, and additional information on the determinations in this notice, including the results of consultation, can be found in its inventory or related records. The National Park Service is not responsible for the determinations in this notice.

Abstract of Information Available

Human remains representing, at least, 416 individuals have been identified. The 705 associated funerary objects are pottery, lithics, bone beads and implements, animal teeth, drilled and worked animal bone, shell beads, netsinkers, projectile points, and pipes. All individuals and AFOs accounted for in this NIC come from Ohio.

Private individuals between the 1960s and 1980s donated human remains representing 73 individuals and 52 AFOs from Ashtabula, Cuyahoga, Erie, Franklin, Lake, Lorain, Richland, Sandusky, and Scioto counties to CMNH. Additional individuals and AFOs excavated by CMNH staff or received with archaeological provenience are as follows: 39 individuals and one AFO were excavated by CMNH staff in Adams county in 1977 (33Ad000, Manchester Boat Ramp site and 33Ad36, Killen site). One individual was excavated by CMNH staff in Ashtabula county in 1971 (33Ab2, Conneaut Fort site), and an additional 11 individuals were excavated by CMNH staff from the same county in 1977 (33Ab40, Eastwall site). Twenty-five individuals were excavated by CMNH staff in four separate salvage excavations in Cuyahoga county between 1969 and 1981 (33-CU-236, Penco Interchange site, 33Cu30, Hillside Road site, 33-CU-34, Squaw Rockshelter site, and 33Cu8, South Park site). One individual was excavated in Erie county as part of a salvage excavation and later transferred to CMNH in 1975 (33Er18, Kelley mansion site, Kelleys Island). Another individual and 13 AFOs were excavated from the same county in 1983 during a salvage excavation and later transferred to CMNH in 2007 (33ER280, Harbour site). From Lake county, 11 individuals were excavated during a salvage excavation by CMNH staff in 1963 (33La11, Bartholomew Site), and one individual was excavated by CMNH staff in 1993 (33La158, Vrooman Road site). An extensive salvage excavation directed by CMNH staff from 1981-2003 uncovered 27 individuals and four AFOs at the Kerniskey site in Lake county, while an equally extensive salvage excavation directed by CMNH staff from 1981-1987 uncovered 172 individuals and at least 505 AFOs (33La139, Norma Grantham site). One individual was excavated by CMNH in 1966 from Meigs county (33Ms2, Hobson site). A salvage excavation of a mound from 1966-1967 in Ross county uncovered three individuals (33Ro22, Edwin Harness Mound, Liberty Works). One individual was collected by CMNH staff in 1975 in Sandusky. One individual and 70 AFOs were collected by CMNH staff in Summit county in 1971 (33-SU-14, Everett Knoll site). An excavation by amateur archaeologists between 1964-1967 uncovered 45 individuals, and 60 AFOs in Tuscarawas county (33Tu2, Riker site). All of this was donated to CMNH in 1971. One individual was excavated during a summer field school from Lorain county (33LA15, Burrell Orchard site).

Cultural Affiliation

Based on the information available and the results of consultation, cultural affiliation is reasonably identified by the geographical location or acquisition history of the human remains and associated funerary objects described in this notice.

Determinations

The CMNH has determined that:

• The human remains described in this notice represent the physical remains of 416 individuals of Native American ancestry.

• The 705 objects described in this notice are reasonably believed to have been placed intentionally with or near individual human remains at the time of death or later as part of the death rite or ceremony.

• There is a connection between the human remains and associated funerary objects described in this notice and the Wyandotte Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after May 2, 2025. If competing requests for repatriation are received, the CMNH must determine the most appropriate requestor prior to repatriation. Requests for joint repatriation of the human remains and associated funerary objects are considered a single request and not competing requests. The CMNH is responsible for sending a copy of this notice to the Indian Tribes and Native Hawaiian organizations identified in this notice.

Authority: Native American Graves Protection and Repatriation Act, 25 U.S.C. 3003, and the implementing regulations, 43 CFR 10.10.

Dated: March 21, 2025.
Melanie O'Brien,
Manager, National NAGPRA Program.

[FR Doc. 2025-05608 Filed 4-1-25; 8:45 am]

BILLING CODE 4312-52-P